ENVIRONMENTAL PROTECTION AGENCY

[OPP-00690; FRL-6758-6]

Pesticide Guidelines; Request for Information to Update Plant Commodity Table

AGENCY: Environmental Protection Agency (EPA).

ACTION: Notice.

SUMMARY: EPA intends to update its guidance on the residue data requirements that support registration of pesticides under the Federal Insecticide, Fungicide, and Rodenticide Act (FIFRA) and that support tolerances under the Federal Food, Drug, and Cosmetic Act (FFDCA) for use in the conduct of human health risk assessments. The Agency will update the Series 860—Residue Chemistry Test Guidelines by revising Table 1 in OPPTS 860.1000, describing raw agricultural commodities (RACs), processed foods, and livestock feedstuffs because of changes in commercial food/feed processing practices, livestock feeding practices, and consumer consumption patterns. The Agency seeks information from interested parties on the raw agricultural commodities, processed foods, and livestock feedstuffs currently listed in Table 1, as well as information about other such commodities that should be considered for addition to Table 1.

DATES: Comments, identified by docket control number OPP-00690, must be received on or before April 24, 2001.

ADDRESSES: Comments may be submitted by mail, electronically, or in person. Please follow the detailed instructions for each method as provided in Unit I. of the SUPPLEMENTARY INFORMATION. To ensure proper receipt by EPA, it is imperative that you identify docket control number OPP-00690 in the subject line on the first page of your response.

FOR FURTHER INFORMATION CONTACT: Jerry Stokes, Health Effects Division (7509C), Office of Pesticide Programs, Environmental Protection Agency, 1200 Pennsylvania Ave., NW., Washington, DC 20460; telephone number: (703) 305-7561; fax number: (703) 305-5147; e-mail address: stokes.jerry@epa.gov.

SUPPLEMENTARY INFORMATION:

I. General Information

A. Does this Action Apply to Me?

This action is directed to the public in general. This action may, however, be of interest to those persons who are or may be required to conduct testing of chemical substances under FFDCA or FIFRA. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. You may also obtain copies of the test guidelines from the EPA Internet Home page at http://www.epa.gov/opptsfrs/home/guidelin.htm/. The OPPTS 860.1000 test guideline must be down-loaded in Adobe portable document format (PDF) in order for the current Table 1 to be viewed or printed.

C. How and to Whom Do I Submit Comments?

You may submit comments through the mail, in person, or electronically. To ensure proper receipt by EPA, it is imperative that you identify docket control number OPP-00690 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket control number OPP-00690. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to include docket control number OPP-00690 in the subject line on the first page of your response. You may also provide the name, date, and Federal Register citation.

II. Background

A. What Action is the Agency Taking?

“Table 1.—Raw Agricultural and Processed Commodities and Feedstuffs Derived From Crops,” appearing in the OPPTS 860.1000 test guideline (61 FR 44308, August 28, 1996) (FRL-5390-7), provides a listing of most significant food and feed commodities, both raw and processed, for which residue data are collected and pesticide tolerances may be set. Table 1 also provides a description of the raw agricultural commodity and the proper growth stage to take samples for residue analysis. In addition, for feedstuffs, Table 1 provides:

1. The maximum percent of the diet for beef and dairy cattle, poultry and swine; and

2. Guidance on those crops EPA believes it would be appropriate to allow label restrictions prohibiting use of commodities as feedstuffs.

The Agency believes that it is now appropriate to update Table 1 because there have been significant changes in commercial processing and livestock feeding practices. In addition, changes in consumer consumption patterns suggest that additional data for some processed commodities may help to further refine Agency dietary exposure assessments. Commodities that predominate in children's diets will be a special focus of attention.

EPA is seeking stakeholder involvement to make the process most effective. Interested parties are asked to provide information on raw agricultural commodities, associated processed commodities and livestock feedstuffs derived from the RACs, and/or processed commodities. Information provided could include:

1. Amount of RAC, processed commodity, or feedstuff produced;

2. Common processing practices;

3. Disposition of processing wastes;

4. Regional production/distribution of feedstuffs;

5. Cultural practices and harvesting information needed to assess the RAC;

6. Portion of commodity consumed;

7. Percent dry matter at sampling stages; or

8. Changes in the maximum percent of livestock diet.

Information concerning national or local distribution or utilization of livestock feedstuffs is desirable. All information supplied should be accompanied with adequate supporting documentation.

Additional raw agricultural commodities will be incorporated into Table 1 as appropriate. It is anticipated that Table 1 will also be expanded to include more processed commodities. Interested parties are encouraged to submit information on processed commodities not previously considered in Table 1.

B. What is the Agency's Authority for Taking this Action?

In response to a FIFRA Scientific Advisory Panel recommendation that the Agency, “. . . retain a standing committee to continue monitoring and updating the contents of this table,” the Agency is now updating Table 1. The feedstuffs section of Table 1 was the primary focus of revisions reflected in the August 1996 revision. Effectively, the processed commodities have not been updated since the original 1982 version of Table 1.

List of Subjects

Environmental protection, Agricultural commodities, Health, Livestock, Test guidelines.

Dated: January 11, 2001.
Marcia E. Mulkey,
Director, Office of Pesticide Programs.

[FR Doc. 01-2183 Filed 1-23-01; 8:45 am]

BILLING CODE 6560-50-S